DEPARTMENT OF STATE

[Public Notice: 12685]

Global Magnitsky Human Rights Accountability Act Annual Report

SUMMARY: This notice contains the text of the report required by the Global Magnitsky Human Rights Accountability Act.

FOR FURTHER INFORMATION CONTACT: Andrew Self, Senior Advisor, Bureau of Economic and Business Affairs, Email: SelfAH@state.gov, Phone: (202) 412 -3586.

SUPPLEMENTARY INFORMATION: On March 12, 2025, the Acting Under Secretary of State for Political Affairs approved the following report pursuant to the Global Magnitsky Human Rights Accountability Act (Pub. L. 114-328, Title XII, Subtitle F) (“the Act”), which is implemented and built upon by Executive Order 13818 of December 20, 2017, “Executive Order Blocking the Property of Persons Involved in Serious Human Rights Abuse or Corruption” (E.O. 13818). The text of the report follows:

Pursuant to section 1264 of the Act, and consistent with E.O. 13818, the Secretary of State, in consultation with the Secretary of the Treasury, submits this report on the implementation of the Act during the 2024 reporting period.

The Global Magnitsky sanctions program is the United States' flagship foreign policy tool for promoting accountability for human rights abuse and corruption globally. The U.S. government implements and builds upon the Act under E.O. 13818, Blocking the Property of Persons Involved in Serious Human Rights Abuse or Corruption, issued on December 20, 2017. In 2024, the United States designated 70 foreign persons under the Global Magnitsky sanctions program, bringing the total foreign persons designated under the program to over 740. Global Magnitsky designations in 2024 represent the most geographically expansive set of designations to date, including targets in over 19 countries from nearly every major geographic region.

Throughout 2024, the Global Magnitsky sanctions program was used to advance U.S. interests and foreign policy goals. During the reporting period, State and Treasury worked together to pursue designations in furtherance of several anti-corruption and human rights thematic priorities. These priorities included disrupting transnational corruption, including enablers of corruption, and promoting accountability for human rights abuses involving violence against women and girls, arbitrary detention, and forced labor. Action on these priorities helped address some of the most pervasive and egregious manifestations of corruption and human rights abuse around the world. Additionally, these priorities reflected State and Treasury's assessment of which corruption and human rights-related typologies economic sanctions are impactful in addressing.

Corruption-related designations in 2024 included designations combatting public corruption in Guatemala, Guyana, Paraguay, and Zimbabwe and designations disrupting a global corruption network involved in gold smuggling and money laundering. Human rights-related designations included designations promoting accountability for the arbitrary detention of a human rights defender in Russia and U.S. locally employed staff in Yemen; egregious acts of violence against women and girls in Haiti and Uzbekistan; violent abuses against peaceful protesters in Georgia; forced labor and human trafficking in Cambodia; and political repression in Zimbabwe.

Global Magnitsky Designations by Country

In 2024, the Secretary of the Treasury, in consultation with the Secretary of State and the Attorney General, imposed economic sanctions on the following 70 foreign persons (individuals and entities) pursuant to E.O. 13818 (presented alphabetically by country):

Cambodia

• Ly Yong Phat: Ly Yong Phat (Ly) was designated on September 12, 2024, for being a foreign person who is responsible for or complicit in, or has directly or indirectly engaged in, serious human rights abuse, related to the treatment of trafficked workers subjected to forced labor in online scam centers. Ly is a Cambodian senator and tycoon who owns L.Y.P. Group, which owns O-Smach Resort. Concurrent with the designation of Ly, the following entities were designated:

• O-Smach Resort: O-Smach Resort was designated on September 12, 2024, for being a foreign person who is responsible for or complicit in, or has directly or indirectly engaged in, serious human rights abuse, related to the treatment of trafficked workers subjected to forced labor in online scam operations. From 2022-2024, police investigated, and media publicly reported on, extensive and systematic serious human rights abuses at O-Smach Resort. Victims reported being lured to O-Smach Resort with false employment opportunities, having their phones and passports confiscated upon arrival, and being forced to advance scam operations. People who called for help reported being beaten, abused with electric shocks, made to pay a hefty ransom, or threatened with being sold to other online scam gangs. There were two reports of victims jumping to their deaths from buildings within O-Smach Resort.

• L.Y.P. Group., LTD: On September 12, 2024, L.Y.P. Group Co., LTD was designated for being a foreign person who is responsible for or complicit in, or has directly or indirectly engaged in, serious human rights abuse, related to the treatment of trafficked workers subjected to forced labor in online scam centers. L.Y.P. Group owns O-Smach Resort.

• Garden City Hotel, Koh Kong Resort, and Phnom Penh Hotel: These entities were designated on September 12, 2024, for being owned or controlled by, or having acted or purported to act for or on behalf of, directly or indirectly, Ly, an individual concurrently designated pursuant to E.O. 13818.

Georgia

• Zviad Kharazishvili: Chief of the Special Task Department of Georgia's Ministry of Internal Affairs Zviad Kharazishvili (Kharazishvili) was designated on September 16, 2024, for being a foreign person who is, or has been, a leader or official of an entity, including any government entity, that has engaged in, or whose members have engaged in, serious human rights abuse related to the leader's or official's tenure, particularly related to undermining fundamental freedoms, including freedom of expression, in Georgia. On May 28, 2024, despite weeks of mass protests against the proposed legislation, the ruling Georgia Dream party passed a law titled “On Transparency of Foreign Influence,” known colloquially as the “foreign influence law.” This law requires nongovernmental organizations and outlets, including media organizations, that receive more than 20 percent of their funding from foreign sources to register as organizations “pursuing the interest of a foreign power.” During the protests that occurred prior to passage of the law, security forces from the Ministry of Internal Affairs' Special Task Department violently targeted Georgian citizens, political opposition leaders, journalists, and youth activists who were peacefully expressing their views. This violence was overseen by the task department's chief, Kharazishvili.

• Mileri Lagazauri: Mileri Lagazauri (Lagazauri), Deputy Chief of the Special Task Department of the Georgia's Ministry of Internal Affairs, was designated on September 16, 2024, for being a foreign person who is, or has been, a leader or official of an entity, including any government entity, that has engaged in, or whose members have engaged in, serious human rights abuse related to the leader's or official's tenure, particularly related to undermining fundamental freedoms, including freedom of expression, in Georgia. More specifically, Lagazauri was associated with brutal crackdowns on peaceful protesters and political opponents. During the protests that occurred prior to passage of the foreign influence law, Lagazauri, one of Kharazishvili's deputies, oversaw violence by security forces from the Ministry of Internal Affairs' Special Task Department targeting Georgian citizens, political opposition leaders, journalists, and youth activists who were peacefully expressing their views.

• Konstantine Morgoshia: Konstantine Morgoshia (Morgoshia) was designated on September 16, 2024, for being a foreign person responsible or complicit in, or having directly or indirectly engaged in, serious human rights abuse. Morgoshia is a founder of Alt-Info, a media company he used to amplify disinformation and spread hate speech and threats against communities. In 2021 and 2023, he advocated for violent attacks against people peacefully exercising their fundamental freedoms of expression and assembly and led hundreds of followers to break into nongovernmental organization offices and attack journalists and police officers at the scene.

• Zurab Makharadze: Zurab Makharadze (Makharadze) was designated on September 16, 2024, for being a foreign person responsible for or complicit in, or having directly or indirectly engaged in, serious human rights abuse. Makharadze is a media personality associated with Alt-info and was one of the most vocal supporters of violence against peaceful demonstrators. He directly encouraged violence against minority groups and journalists online prior to the violent attacks on marginalized communities and helped to direct, organize, and fundraise for violence targeting human rights protesters in 2021 and 2023. During the attacks, he led a group to remove protesters from in front of the Georgian parliament and then instructed followers to go with Konstantine Morgoshia to attack nongovernmental organization offices.

• Vakhtang Gomelauri: Georgia's Minister of Internal Affairs Vakhtang Gomelauri (Gomelauri) was designated on December 19, 2024, for being a foreign person who is or has been a leader or official of an entity, including any government entity, that has engaged in, or whose members have engaged in, serious human rights abuse related to the leader's or official's tenure. Gomelauri oversaw the violence perpetrated by the Special Task Department, including brutal crackdowns and beatings of peaceful protesters.

• Mirza Kezevadze: Deputy Head of the Special Task Department in Georgia's Ministry of Internal Affairs Mirza Kezevadze (Kezevadze) was designated on December 19, 2024, for being a foreign person who is or has been a leader or official of an entity, including any government entity, that has engaged in, or whose members have engaged in, serious human rights abuse related to the leader's or official's tenure. In addition to aforementioned individuals, Kezevadze oversaw the violence perpetrated by the Special Task Department.

Guatemala

• Alberto Pimentel Mata: Guatemala's Minister of Energy and Mining Alberto Pimentel Mata (Pimentel) was designated on January 17, 2024, for being a foreign person who is a current or former government official, or person acting for or on behalf of such an official, who is responsible for or complicit in, or who has directly or indirectly engaged in, corruption, including the misappropriation of state assets, the expropriation of private assets for personal gain, corruption related to government contracts or the extraction of natural resources, or bribery. During Pimentel's time as the energy minister, he engaged in numerous corruption schemes exploiting the Guatemalan mining sector through widespread bribery, including schemes related to government contracts and mining licenses. Additionally, Pimentel reportedly accepted large monthly payments to facilitate the acquisition of necessary permits and licenses for a private company operating in the energy and mining sector of Guatemala. In another instance, Pimentel reportedly received a large illicit payment to begin the consultation process with local communities in El Estor, Izabal, Guatemala for the benefit of private entities. Separately, he reportedly requested large bribes of more than $1 million from mining industry groups in Guatemala in exchange for mining licenses.

Guyana

• Mohamed's Enterprise: Mohamed's Enterprise, one of Guyana's largest gold exporters, was designated on June 11, 2024, for being a person who has materially assisted, sponsored, or provided financial, or technological support for, or goods or services to or in support of, corruption, including the misappropriation of state assets, the expropriation of private assets for personal gain, corruption related to government contracts of the extraction of natural resources, or bribery, that is conducted by a foreign person. Mohamed's Enterprise bribed customs officials to falsify import and export documents, as well as to facilitate illicit gold shipments. The organization also paid bribes to Guyanese government officials to ensure the undisrupted flow of inbound and outbound personnel that move currency and other items on behalf of Mohamed's Enterprise and Azruddin Mohamed.

• Nazar Mohamed: Nazar Mohamed was designated on June 11, 2024, for being a foreign person who is or has been a leader of official of Mohamed's Enterprise.

• Hadi's World: Hadi's World was designated on June 11, 2024, for being owned or controlled by, or for having acted or purported to act for or on behalf of, directly or indirectly, Mohamed's Enterprise.

• Azruddin Mohamed: Azruddin Mohamed (Azruddin) was designated on June 11, 2024, for being a person who has materially assisted, sponsored, or provided financial, or technological support for, or goods or services to or in support of, corruption, including the misappropriation of state assets, the expropriation of private assets for personal gain, corruption related to government contracts of the extraction of natural resources, or bribery, that is conducted by a foreign person. Azruddin took over Mohamed's Enterprise and evaded Guyana's tax on gold exports and defrauded the Guyanese government of tax revenues by under-declaring its gold exports to Guyanese authorities. In addition, Azruddin is the principal and owner of Team Mohamed's Racing Team, a drag racing organization in Guyana.

• Team Mohamed's Racing Team: Team Mohamed's Racing Team was designated on June 11, 2024, for being owned or controlled by, or for having acted or purported to act for or on behalf of, directly or indirectly, Azruddin.

• Mae Thomas: Former Permanent Secretary to Guyana's Minister of Home Affairs Mae Thomas (Thomas) was designated on June11, 2024, for being a foreign person who is a current or former government official, or a person acting for or on behalf of such an official, who is responsible for or complicit in, or has directly or indirectly engaged in, corruption, including the misappropriation of state assets, the expropriation of private assets for personal gain, corruption related to government contracts or the extraction of natural resources, or bribery. When Thomas was the Permanent Secretary to Guyana's Minister of Home Affairs, she used her position to offer benefits to Mohamed's Enterprise and Azruddin, among others, in exchange for cash payments and high-value gifts. Thomas misused her position to influence the award of official contract bids and the approval processes for weapons permits and passports on behalf of Mohamed's Enterprise.

Haiti

• Prophane Victor: Former Haitian legislator Prophane Victor (Victor) was designated on September 25, 2024, for being a person who has materially assisted, sponsored, or provided financial, material, or technological support for, or goods or services to or in support of, an entity, including any government entity, that has engaged in, or whose members have engaged in, serious human rights abuse, where the activity is conducted by a foreign person. Victor started arming young men in Petite Riviere, Artibonite to secure his control over the area and his election in 2016. Those men went on to form the Gran Grif gang, which is currently the largest gang in the Artibonite department and the main perpetrator of abuses, including sexual violence. Victor materially supported Gran Grif until 2020. Victor also trafficked weapons to Haiti and is known to have had relationships with and provided funds to other gangs throughout Haiti, including rivals of Gran Grif. Victor's gang affiliations and material support to them contributed to the climate of terror as the gangs engaged in an array of cruelty, violence, and fight for control, leaving residents to pay the consequences.

• Luckson Elan: Head of the Haiti-based Gran Grif gang Luckson Elan (Elan) was designated on September 25, 2024, for being a foreign person who is responsible for or complicit in, or has directly or indirectly engaged in, serious human rights abuse, and for being or having been a leader or official of an entity, including any government entity, that has engaged in, or whose members have engaged in, serious human rights abuse relating to the leader's or official's tenure. Elan is the current head of the Gran Grif gang and is responsible for serious human rights abuse including kidnapping, murder, beating, and raping of women and children, as well as looting, destruction, extortion, hijacking, and stealing crops and livestock in Haiti.

Paraguay

• Tabacalera del Este S.A.: Tabacalera del Este S.A. (Tabesa) was designated on August 6, 2024, for having materially assisted, sponsored, or provided financial, material, or technological support for, or goods or services to or in support of former Paraguayan president Horacio Manuel Cartes Jara (Cartes), a person whose property and interests in property are blocked pursuant to E.O. 13818. OFAC previously identified Tabesa on OFAC's Specially Designated National and Blocked Persons (SDN) List as an entity in which Cartes owned, directly or indirectly, a 50 percent or greater interest. While Cartes no longer owns Tabesa following a sales agreement to acquire Carte's shares in the company, Tabesa made—and planned to continue making—payments worth millions of dollars to Cartes, despite Cartes's designation by OFAC.

Russia

• Olesya Mendeleeva: Russian judge Olesya Mendeleeva (Mendeleeva) was designated on December 31, 2024, for being a foreign person who is responsible for or complicit in, or has directly or indirectly engaged in, serious human rights abuse. In July 2022, Mendeleeva sentenced Alexei Gorinov, a Moscow city councilor, public defender, and human rights activist, to seven years in prison for voicing opposition to the war against Ukraine. Gorinov suffered physical abuse and denial of medical treatment in detention. Known for handing down long and harsh sentences, Mendeleeva convicted Gorinov for “knowingly disseminating false information about the Russian military” after he accurately called Russia's invasion of Ukraine a “war,” becoming the first judge in Russia to find a defendant guilty of such a charge. While awaiting trial, Gorinov fell ill, and Mendeleeva repeatedly refused to release him from pre-trial custody to seek treatment. During the trial, Mendeleeva refused to consider the defense witnesses' testimonies and reasoned that Gorinov's “reformation” would be impossible without imprisonment.

Uzbekistan

• Yulduz Khudaiberganova: Yulduz Khudaiberganova (Khudaiberganova), a former orphanage director, was designated on the International Day of the Abolition of Slavery, December 2, 2024, for being a foreign person responsible for or complicit in, or having directly or indirectly engaged in, serious human rights abuse, particularly her involvement in human trafficking and violence against women and girls, including physical and sexual violence against children at a state-run orphanage in Urgench, Uzbekistan. For at least 10 months, Khudaiberganova forced at least three underage girls to engage in sexual acts with at least six different men in exchange for funds and goods. Khudaiberganova used various coercive tactics to ensure the girls' compliance, including physical beatings, threats, starvation, and isolation from their peers.

• Aybek Masharipov: Aybek Masharipov (Masharipov), former head of the Khorezm Regional Justice Department, was designated on the International Day of the Abolition of Slavery, December 2, 2024, for being a foreign person responsible for or complicit in, or having directly or indirectly engaged in, serious human rights abuse, particularly his involvement in human trafficking and violence against women and girls, including physical and sexual violence against children at a state-run orphanage in Urgench, Uzbekistan. Masharipov demanded sexual access to orphans in compensation for “gifts” he provided to the orphanage. Masharipov also repeatedly visited the orphanage in order to prey upon the young girls.

• Anvar Kuryazov: Anvar Kuryazov (Kuryazov), former head of the District Emergency Department, was designated on the International Day for the Abolition of Slavery, December 2, 2024, for being a foreign person responsible for or complicit in, or having directly or indirectly engaged in, serious human rights abuse, particularly his involvement in human trafficking and violence against women and girls, including physical and sexual violence against children at a state-run orphanage in Urgench, Uzbekistan. Kuryazov demanded sexual access to orphans in compensation for “gifts” he provided to the orphanage. Kuryazov also repeatedly visited the orphanage in order to prey upon the young girls.

Yemen

• Houthi National Committee for Prisoner's Affairs and Abdulqader Al-Murtadha: On December 9, 2024, the Houthi National Committee for Prisoner's Affairs (HNCPA) and its leader, Abdulqader Al-Murtadha (Al-Murtadha), were designated for being foreign persons who are responsible for or complicit in, or have directly or indirectly engaged in, serious human rights abuse. Al-Murtadha was also designated for being a foreign person who is a leader or official of an entity, including any government entity, that has engaged in, or whose members have engaged in, serious human rights abuse relating to the leader's or official's tenure. The HNCPA operates Houthi prisons in Yemen. At one of the prisons, known as the Exchange House in Sana'a, prisoners were systematically subjected to torture and other forms of cruel, inhuman, or degrading treatment or punishment by the prison's staff. Detainees included current and former locally employed U.S. embassy staff, UN staff, humanitarian workers, and journalists; many were reported to be arbitrarily detained, and some of the prisoners are minors. Prison officials engaged in systematic psychological and physical cruelty and punishment, including mock executions, beatings, and electrocution, among other abuses. Prison officials denied prisoners adequate medical care; as a result, some prisoners have permanent disabilities, and some have reportedly died.

Zimbabwe

• Emmerson Mnangagwa: Emmerson Mnangagwa (Mnangagwa), the President of Zimbabwe, was designated on March 4, 2024, for being a foreign person who is a current or former government official, or a person acting for or on behalf of such an official, who is responsible for or complicit in, or has directly or indirectly engaged in, corruption, including the misappropriation of state assets, the expropriation of private assets for personal gain, corruption related to government contracts or the extraction of natural resources, or bribery. Mnangagwa was also designated for being a foreign person who is or has been a leader or official of an entity, including any government entity, that has engaged in, or whose members have engaged in, serious human rights abuse relating to the leader's or official's tenure. Mnangagwa is involved in corrupt activities, in particular those relating to gold and diamonds smuggling networks. Mnangagwa provides a protective shield to smugglers to operate in Zimbabwe and has directed Zimbabwean officials to facilitate the sale of gold and diamonds in illicit markets, taking bribes in exchange for his services. Mnangagwa also oversees Zimbabwe's security services, which have violently repressed political opponents and civil society groups.

• Auxillia Mnangagwa: Auxillia Mnangagwa (Auxillia), the First Lady of Zimbabwe, was designated on March 4, 2024, for being a current or former government official, or a person acting for or on behalf of such an official, who is responsible for or complicit in, or has directly or indirectly engaged in, corruption, including the misappropriation of state assets, the expropriation of private assets for personal gain, corruption related to government contracts or the extraction of natural resources, or bribery. Auxillia facilitated her husband's corrupt activities.

• Kudakwashe Regimond Tagwirei: Zimbabwean businessman Kudakwashe Regimond Tagwirei (Tagwirei) was designated on March 4, 2024, for having materially assisted, sponsored, or provided financial, material, or technological support for, or goods or services to or in support of corruption, and the transfer or the facilitation of the transfer of proceeds of corruption. President Mnangagwa benefits from the corrupt network of Zimbabwean businessman Tagwirei. Tagwirei is one of the sole beneficial owners of Sakunda Holdings.

• Sakunda Holdings: Sakunda Holdings was designated on March 4, 2024, for having materially assisted, sponsored, or provided financial material, or technological support for, or goods or services to or in support of corruption, and for being owned or controlled by, or having acted or purported to act for or on behalf of Tagwirei.

• Sandra Mpunga: Sandra Mpunga (Mpunga), Tagwirei's wife, was designated on March 4, 2024, for having acted or purported to act for or on behalf of Sakunda Holdings. Mpunga is one of the sole beneficial owners of Sakunda Holdings.

• Fossil Agro: Fossil Agro was designated on March 4, 2024, for having materially assisted, sponsored, or provided financial, material, or technological support for, or goods or services to or in support of Sakunda Holdings.

• Obey Chimuka: Obey Chimuka (Chimuka) was designated on March 4, 2024, for being owned or controlled by, or having acted or purported to act for or on behalf of, Tagwirei. Chimuka also sits on the board and serves as director of several Tagwirei-owned companies.

• Fossil Contracting: Fossil Contracting was designated on March 4, 2024, for being owned or controlled by, or having acted or purported to act for or on behalf of, Chimuka. Chimuka owns Fossil Contracting, which received Government of Zimbabwe contracts that facilitated acts of corruption.

• Constantino Chiwenga: Constantino Chiwenga (Chiwenga) was designated on March 4, 2024, for being a foreign person who is or has been a leader or official of an entity, including any government entity, that has engaged in, or whose members have engaged in, serious human rights abuse relating to the leader's or official's tenure. Under the leadership of Mnangagwa and Zimbabwe's First Vice-President Chiwenga, Zimbabwe's security forces have engaged in the violent repression of political activists and civil society organizations. Mnangagwa's reelection was marred by fraud, the deployment of groups who intimidated voters, and the use of government-organized “ferret teams.” Since the election, the ferret teams, comprising intelligence, police, and military personnel, were likely involved in the abduction of up to 12 individuals associated with civil society organizations or opposition parties, including Tapfumanei Masaya, who was found dead on November 13, 2023. Abductees reported being pushed into vehicles, beaten and stripped naked, injected with unknown substances, threatened with retaliation, and later dumped on the roadside outside of Harare. In 2019, ferret teams reportedly abducted and assaulted more than 50 people. Opposition supporters also claimed to have been tortured by security officials, including being stripped, beaten, and whipped at a Zimbabwe Republic Police (ZRP) station.

• Oppah Muchinguri: Oppah Muchinguri (Muchinguri) was designated on March 4, 2024, for being a foreign person who is or has been a leader or official of an entity, including any government entity that has engaged in, or whose members have engaged in, serious human rights abuse relating to the leader's or official's tenure. Muchinguri is responsible for overseeing Zimbabwe's Defense Forces and is the chair of the national Joint Operation Command. Under her leadership, Zimbabwe's military personnel have engaged in violent repression.

• Godwin Matanga: Godwin Matanga (Matanga) was designated on March 4, 2024, for being a foreign person who is or has been a leader or official of an entity that has, or whose members have, engaged in serious human rights abuse relating to the leader's or official's tenure. Matanga was the Commissioner-General of the ZRP. Under his leadership, ZRP members participated in ferret team activities.

• Stephen Mutamba: Stephen Mutamba (Mutamba) was designated on March 4, 2024, for being a foreign person who is or has been a leader or official of an entity, including any government entity, that has engaged in, or whose members have engaged in, serious human rights abuse relating to the leader's or official's tenure. Mutamba has been a Deputy Commissioner-General of the ZRP since at least 2019. Under his leadership, ZRP members have engaged in the violent oppression of political opposition.

• Walter Tapfumaneyi: Walter Tapfumaneyi (Tapfumaneyi) was designated on March 4, 2024, for being a foreign person who is or has been a leader or official of an entity, including any government entity, that has engaged in, or whose members have engaged in, serious human rights abuse relating to the leader's or official's tenure. Tapfumaneyi has been the Deputy Director General of Zimbabwe's Central Intelligence Organization (CIO) since 2020. He reportedly answered directly to Mnangagwa and led the campaign to disrupt the 2023 electoral process through his leadership of ruling party-affiliated groups. He was also alleged to have been personally involved in past kidnappings.

• Owen Ncube: Owen Ncube (Ncube) was designated on March 4, 2024, for being a foreign person that is responsible for or complicit in, or has directly or indirectly engaged in, serious human rights abuse. Ncube was Zimbabwe's Minister of State Security from 2018 to 2022, during which time he ordered security services to identify, abduct, and mistreat individuals assessed to be supporters of a Zimbabwean opposition group. He was recently reappointed to government as the Minister of State for Midlands Provincial Affairs. He was reported to lead a notoriously violent group that was alleged to be responsible for attacks and killings around Kwekwe, Zimbabwe.

Global Corruption Network

On December 9, 2024, 28 individuals and entities were sanctioned for their involvement in a global gold smuggling and money laundering network based in Zimbabwe.

• The global network led by Kenyan individual Kamlesh Mansukhlal Damji Pattni (Pattni) facilitated illicit activities by bribing officials, deploying trusted supporters to mask ownership, and weaving a global web of businesses to hide the illicit activities. Pattni was designated for having materially assisted, sponsored, or provided financial, material, or technological support for, or goods or services to or in support ofcorruption, including the misappropriation of state assets, the expropriation of private assets for personal gain, corruption related to government contracts or the extraction of natural resources, or bribery. This fraudulent scheme robbed Zimbabwe's citizens of the benefit of those natural resources while enriching corrupt government officials and criminal actors. The designation of the Pattni's web of supporters and companies illustrate how illicit activity based in Zimbabwe spread across multiple countries, using a web of trusted supporters, and bribing government officials to concoct a complex corruption scheme. Pattni's network has spread across multiple countries, reflecting the global nature of corruption. More recently, Pattni and several of his supporters have looked to establish new operations in other resource-rich countries, further compounding the threat of his illicit network poses to the U.S. and global financial systems. In addition to Pattni, the following entities and individuals below were designated:

Mukesh Manuskhlal Vaya, Kenyan national

Swetang Sinha, Indian national

Rahul Sood, Indian national

Mishaal Hitesh Pattni, Kenyan national

Sanjay Keshavji Vaya, Kenyan national

Raj Vaya Sanjay, Kenyan national

David Paul Crosby, British national

Dmytro Abakumov, Ukrainian national

Sun Multinational DMCC, United Arab Emirates

Marwa Investments Limited, United Arab Emirates

Fiza Gold and Bullion Trading L.L.C., United Arab Emirates

Golden Luxury Jewellery Trading L.L.C., United Arab Emirates

Memories Golden Jewellery L.L.C., United Arab Emirates

Ruhmeer Diamonds DMCC, United Arab Emirates

Sun Star Travel & Tourism L.L.C., United Arab Emirates

Sahara Petroleum PTE. LTD., Singapore

Precious Bullion DMCC, United Arab Emirates

Rubini Investment Group Limited, British Virgin Islands/United Arab Emirates

Samaria Holdings Limited, United Arab Emirates

Suzan General Trading JLT, United Arab Emirates

Manurama Limited, Kenya

Suzan General Trading (PVT) LTD, Zimbabwe

Skorus Investments (PVT) LTD, Zimbabwe

Sakhara Petroleum OSOO, Kyrgyzstan

Mirdk Fyuels OSOO, Kyrgyzstan

Royal Sona OSOO, Kyrgyzstan

Suprim Ef Iks OSOO, Kyrgyzstan

VISA Restrictions Imposed

Persons designated pursuant to E.O. 13818 are subject to the entry restrictions articulated in section two, unless an exception applies. Section two provides that the entry of persons designated under section one of the order is suspended pursuant to Presidential Proclamation 8693.

In 2024, the Department took steps to impose visa restrictions, when appropriate, on foreign persons involved in certain human rights violations and significant corruption pursuant to other authorities, including Presidential Proclamation 7750 and Section 7031(c) of the Department of State, Foreign Operations, and Related Programs Appropriations Act. The Department will continue to identify individuals subject to those authorities as appropriate, including but not limited to individuals designated under the Global Magnitsky program. In addition, the Department continues to implement all grounds of inadmissibility in the Immigration and Nationality Act (INA), including INA section 212(a)(3)(C).

Coordinated Actions With Partners and Allies

The United States recognizes that our sanctions are most impactful when implemented in coordination with our foreign partners. Since the issuance of E.O. 13818, the United States has encouraged likeminded partners to develop their own global human rights and anti-corruption sanctions programs. In 2024, the United States prioritized coordinated sanctions actions with partners and allies, including those with similar authorities, namely Australia, Canada, the European Union, and the United Kingdom. Additionally, the United States supported persons designated under the Global Magnitsky sanctions program for designation at the United Nations.

Canada

• On December 9, 2024, Canada sanctioned PRC officials Zhang Hongbo, Shohrat Zakir, Erken Tuniyaz, Chen Quanguo, and Huo Liujun for human rights abuses, including in Xinjiang and Tibet. These designations reinforced prior designations of these individuals by the United States in 2020, 2021, and 2022.

• On June 20, 2024, Canada sanctioned Haitian gang leader, Luckson Elan. Elan was subsequently designated by the United States on September 25, 2024.

United Kingdom

• On September 30, 2024, the UK sanctioned former member of Haiti's parliament, Prophane Victor, reinforcing the prior designation of Victor by the United States on September 25, 2024.

• On October 30, 2024, the UK sanctioned Haitian gang leader, Luckson Elan, reinforcing the prior designation of Elan by the United States on September 25, 2024.

• On December 9, 2024, the UK sanctioned Kenyan individual Kamlesh Pattni concurrently with the United States.

• On December 19, 2024, the UK sanctioned Georgian Minister of Internal Affairs Vakhtang Gomelauri concurrently with the United States. Additionally, the UK sanctioned Georgian Special Task Department Chief Zviad Kharazishvili and Georgian Special Task Department Deputy Mileri Lagazauri, reinforcing the prior designations of Kharazishvili and Lagazauri by the United States on September 16, 2024.

United Nations

• On September 25, 2024, concurrent with their designation under E.O. 13818, the United States co-sponsored the designation of former member of Haiti's parliament, Prophane Victor, and leader of the Gran Grif gang, Luckson Elan, for designation under the UN Haiti sanctions regime.

Andrew H. Self,
Senior Advisor, Bureau of Economic and Business Affairs, Department of State.

[FR Doc. 2025-04530 Filed 3-18-25; 8:45 am]

BILLING CODE 4710-07-P